DEPARTMENT OF TRANSPORTATION

Federal Railroad Administration

[Docket No. FRA-2018-0008-N-7]

Proposed Agency Information Collection Activities; Comment Request

AGENCY: Federal Railroad Administration (FRA), Department of Transportation (DOT).

ACTION: Notice of Information Collection Request; request for comment.

SUMMARY: Under the Paperwork Reduction Act of 1995 (PRA), this notice announces that FRA is forwarding the Information Collection Request (ICR) abstracted below to the Office of Management and Budget (OMB) for review and comment. The ICR describes the information collections and their expected burden. On May 10, 2018, FRA published a notice providing a 60-day period for public comment on the ICR.

DATES: Interested persons are invited to submit comments on or before September 7, 2018.

ADDRESSES: Submit written comments on the ICR to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292); or Ms. Kim Toone, Information Collection Clearance Officer, Office of Administration, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve an ICR. See 44 U.S.C. 3506, 3507; 5 CFR 1320.8-12. On May 10, 2018, FRA published a 60-day notice in the Federal Register soliciting comment on the ICR for which it is now seeking OMB approval. See 83 FR 21815 (May 10, 2018). During the comment period, on June 4, 2018, counsel for the Association of American Railroads asked clarifying questions, on behalf of its member railroads, regarding FRA's proposed changes to Section 6 of the Quarterly PTC Progress Report (Form FRA F 6180.165) and Annual PTC Progress Report (Form FRA F 6180.166). Consistent with the abstract below, and FRA's summary in its 60-day notice, FRA confirmed that a host railroad may provide its approximate completion dates for interoperability testing with each tenant railroad in Section 6 of the reporting forms. FRA received no written comments in response to the 60-day notice.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983 (Aug. 29, 1995). OMB believes the 30-day notice informs the regulated community to file relevant comments and affords the agency adequate time to digest public comments before it renders a decision. 60 FR at 44983. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Positive Train Control.

OMB Control Number: 2130-0553.

Abstract: Under the Positive Train Control Enforcement and Implementation Act of 2015 (PTCEI Act), each railroad subject to 49 U.S.C. 20157(a) must submit an annual progress report to FRA by March 31, 2016, and annually thereafter, until PTC system implementation is completed. 49 U.S.C. 20157(c)(1). The PTCEI Act specifically requires each railroad to provide certain information in the annual reports regarding its progress toward implementing a PTC system, in addition to any other information FRA requests. See id. In addition, 49 U.S.C. 20157(c)(2) requires FRA to conduct compliance reviews at least annually to ensure each railroad is complying with its revised PTC Implementation Plan (PTCIP), including any FRA-approved amendments. The PTCEI Act requires railroads to provide information to FRA that FRA determines is necessary to adequately conduct such compliance reviews. 49 U.S.C. 20157(c)(2).

Under its statutory and regulatory investigative authorities, FRA currently requires, and seeks to continue requiring, each subject railroad to submit Quarterly PTC Progress Reports (Form FRA F 6180.165) and Annual PTC Progress Reports (Form FRA F 6180.166) on its PTC system implementation progress. See 49 U.S.C. 20157(c)(1)-(2); see also 49 U.S.C. 20107; 49 CFR 236.1009(h).

Specifically, in addition to the Annual PTC Progress Report (Form FRA F 6180.166) due each March 31 under 49 U.S.C. 20157(c)(1), railroads must provide quarterly progress reports covering the preceding three-month period and submit the forms to FRA on the dates in the following table until full PTC system implementation is completed:

| Coverage priod | Due dates for quarterly reports
Q1 | January 1-March 31 | April 30.
Q2 | April 1-June 30 | July 31.
Q3 | July 1-September 30 | October 31.
Q4 | October 1-December 31 | January 31.

Each railroad must submit its Quarterly PTC Progress Reports on Form FRA F 6180.165 and its Annual PTC Progress Reports on Form FRA F 6180.166 on FRA's Secure Information Repository at https://sir.fra.dot.gov.

II. Proposed Revisions to the Quarterly and Annual PTC Progress Report Forms

On August 15, 2017, OMB approved the Quarterly PTC Progress Report (Form FRA F 6180.165) and Annual PTC Progress Report (Form FRA F 6180.166) for a period of one year, expiring on August 31, 2018. The current Quarterly PTC Progress Report Form and Annual PTC Progress Report Form, as approved through August 31, 2018, can be accessed and downloaded in FRA's eLibrary at: https://www.fra.dot.gov/eLib/details/L17365 and https://www.fra.dot.gov/eLib/details/L17366, respectively. These versions of the forms took into account the Association of American Railroads' written comments on behalf of itself and its member railroads; the American Public Transportation Association's written comments on behalf of Northeast Illinois Commuter Rail System, the Utah Transit Authority, the Tri-County Metropolitan Transportation District of Oregon, and the Fort Worth Transportation Authority; and industry stakeholders' comments during FRA's public meeting on April 19, 2016. FRA published minutes from the meeting on www.regulations.gov under Docket No. FRA-2016-0002. For a summary of the oral and written comments and FRA's responses to the comments, please see 81 FR 28140, May 9, 2016.

Following the above cited 60-day public comment period, FRA is now requesting OMB's re-approval of the forms, with the five changes described below. First, in Section 1 of the Quarterly PTC Progress Report Form (FRA F 6180.165), FRA proposes revising the row “Territories Where Revenue Service Demonstration Has Been Initiated” to state “Territories in Revenue Service Demonstration or in PTC Operation” for clarity, based on additional feedback from the industry following OMB's approval of the form on August 15, 2017. FRA intended this row to include any and all territories where a railroad had initiated revenue service demonstration (RSD), even if a railroad subsequently obtained PTC System Certification from FRA and is operating its PTC system in revenue service. The purpose of this row is to collect information regarding a railroad's progress toward meeting the statutory criteria under 49 U.S.C. 20157(a)(3)(B)(vi)-(vii), if applicable. Based on feedback from the industry, FRA proposes clarifying the language in this row in Section 1 so railroads understand that a railroad can include in this row the number of territories where its PTC system is in RSD or in operation. This proposed change does not result in any additional reporting burden as it is only a clarifying change.

Second, in footnotes 4 and 6 of the Quarterly PTC Progress Report Form (FRA F 6180.165), FRA proposes adding a hyperlink to Appendix A. The footnotes currently state: “If a particular category listed in this table does not apply to the railroad's technology, please indicate `N/A.' A railroad may add categories or subcategories if it wants to provide more detail.” FRA proposes adding the phrase “in Appendix A” to the second sentence with a hyperlink to that appendix to the form, as it will help direct railroads to the available section of the PDF where they can provide additional information. A hyperlink to Appendix A was in the corresponding footnotes in the prior version of the Quarterly PTC Progress Report Form that OMB approved through June 30, 2017, but the hyperlink was omitted in error from the current version of the form. This proposed change (i.e., adding a hyperlink to an existing appendix) does not result in any additional reporting burden as it is only a formatting change.

Third, in Section 4 (entitled “Installation/Track Segment Progress—Current Status”) of both the quarterly form and the annual form, FRA proposes replacing the “Testing” option in the drop-down menu with two more precise options—i.e., “Field Testing” and “Revenue Service Demonstration.” This modification will help ensure clearer and more accurate reporting, without imposing an additional reporting burden.

Fourth, with respect to only the Annual PTC Progress Report Form (FRA F 6180.166), FRA proposes to delete a now inapplicable instruction from footnote 7 in Section 4, which stated,

Please note: For the Annual PTC Progress Report due by March 31, 2017, this mandatory geographic requirement (that must be satisfied by either completing Column 5 in Section 4 or submitting a GIS shapefile as described above) is due to FRA by April 30, 2017. Every other part of this form must be completed and submitted to FRA by March 31, 2017. This limited extension applies only in 2017.

FRA delayed the due date for submitting that specific information in 2017 only, per OMB's request, to ensure railroads had sufficient time to compile and provide the information. FRA proposes removing that note from footnote 7 as it is no longer applicable or necessary. By statute, a railroad's Annual PTC Progress Report is due by March 31st each year until it completes PTC system implementation. 49 U.S.C. 20157(c)(1).

Fifth, with respect to both the quarterly form and the annual form, FRA proposes making certain changes to Section 6 (entitled “Update on Interoperability Progress”). FRA proposes removing the portion of the instruction that states a host railroad must provide information about the status of each tenant railroad's rolling stock “if the tenant does not have a separate PTCIP on file.” FRA proposes removing this limiting instruction because FRA needs to know the PTC implementation status of any tenant railroad that operates on the host railroad's property, except any tenant railroad that is subject to an exception under 49 CFR 236.1006(b). In addition, before the final column in the table in Section 6, FRA proposes adding a column entitled, “Scheduled Completion Date for Interoperability Testing.” This information is necessary for FRA to understand the progress a host railroad and each of its required tenant railroads are jointly making toward testing and achieving PTC system interoperability, consistent with host railroad's PTC Implementation Plan and/or PTC Safety Plan. FRA estimates the additional burden for a host railroad to complete this new reporting requirement would be, on average, approximately 2.5 hours for Class I railroads and large passenger railroads; 1.25 hours for Class II and medium passenger railroads; and thirty minutes for Class III, terminal, and small passenger railroads.

III. Overview of Information Collection

The associated collection of information is summarized below.

Title: Positive Train Control (Quarterly Positive Train Control Progress Report and Annual Positive Train Control Progress Report).

Type of Request: Extension with change of a currently approved information collection.

Affected Public: Businesses (railroads).

Form(s): FRA F 6180.165 and FRA F 6180.166.

Respondent Universe: 41 Railroad Carriers.

Frequency of Submission: On occasion.

Total Estimated Annual Responses: 147,526.

Total Estimated Annual Burden: 2,728,528 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-16880 Filed 8-7-18; 8:45 am]

BILLING CODE 4910-06-P